DEPARTMENT OF TRANSPORTATION

Federal Aviation Administration

Aviation Rulemaking Advisory Committee—New Task

AGENCY: Federal Aviation Administration (FAA), DOT.

ACTION: Notice of new task assignment for the Aviation Rulemaking Advisory Committee (ARAC).

SUMMARY: The FAA assigned the Aviation Rulemaking Advisory Committee (ARAC) a new task to provide recommendations regarding the outdated Advisory Circular (AC) 120-17A, Maintenance Control by Reliability Methods guidance material. The FAA needs to provide its employees and the aviation industry with current information for developing, implementing, maintaining and overseeing air carrier's maintenance reliability programs. This notice informs the public of the new ARAC activity and solicits membership for the Maintenance Reliability Program Working Group.

FOR FURTHER INFORMATION CONTACT: Paul K. Pitts, Federal Aviation Administration, AFS-330 Air Carrier Maintenance Branch, 800 Independence Avenue SW., Washington, DC 20591; email: Paul.K.Pitts@faa.gov, telephone: (202) 385-6818, facsimile: (202) 385-6474.

SUPPLEMENTARY INFORMATION:

ARAC Acceptance of Task

As a result of the June 2013 ARAC meeting, the FAA has assigned and ARAC has accepted this task and will establish the Maintenance Reliability Program Working Group. The working group will serve as staff to ARAC and provide it advice and recommendations on the assigned task. ARAC will review and approve the recommendation report that will be sent to the FAA.

Background

The FAA established ARAC to provide advice and recommendations to the FAA Administrator, through the Associate Administrator of Aviation Safety, on the FAA's rulemaking activities. ARAC's objective is to improve the development of the FAA's regulations and guidance material by providing information, advice, and recommendations related to aviation issues.

The National Transportation Safety Board (NTSB) issued safety recommendation, A-09-110, which identified contradictory philosophy regarding on-condition maintenance in reliability program control mechanisms recognized by the FAA. Specifically, it requested the FAA to:

Resolve the differences between Advisory Circular (AC) 120-17A and AC 120-16E (now revised to AC 120-16F) in regard to Federal Aviation Administration philosophy and use of on-condition maintenance programs.

Currently, AC 120-17A refers to the Maintenance Steering Group 2 (MSG-2) logic for developing maintenance programs, which dates from the 1970's. AC 120-16F, dated November 15, 2012, provides guidance for the implementation of an air carriers maintenance program. Air carriers consider the maintenance requirements for identifying tasks and intervals when establishing maintenance programs. These considerations address corrective and preventive maintenance on airframes, engines, rotors, propellers, appliances, and emergency equipment. Recognizing the experience gained from MSG-2, we now use MSG 3 logic, which replaced MSC-2 logic in 1980, for developing a more effective set of procedures through analysis of aircraft functions, rather than components. In response to the NTSB safety recommendation, the FAA is requesting ARAC assistance to evaluate the guidance contained in the AC's that are associated with methods for establishing, monitoring, maintaining and overseeing air carrier reliability programs.

The Maintenance Reliability Program Working Group will provide advice and recommendations on the concepts and standards for maintenance reliability methods for ARAC review and approval.

The Task

The Maintenance Reliability Program Working Group is to complete the following:

1. Review the NTSB Recommendation A-09-110. http://www.ntsb.gov/doclib/recletters/2009/A09_108_111.pdf

2. Review AC 120-17A, “Maintenance Control by Reliability Methods” http://www.faa.gov/regulations_policies/advisory_circulars/index.cfm/go/document.information/documentID/22744, and AC 120-16F “Air Carrier Maintenance Programs”. http://www.faa.gov/documentLibrary/media/Advisory_Circular/AC%20120-16F.pdf

3. Gather and review all internal and external guidance documents that reference or provide information on establishing, monitoring, maintaining and overseeing air carrier reliability programs.

4. Determine whether updated guidance material is appropriate and if so, develop draft internal and external guidance based on modern concepts, which ensure a standardized methodology for establishing, monitoring, maintaining and overseeing air carrier's aircraft maintenance reliability programs.

5. Develop and submit a report that contains recommendations for ensuring consistent establishment, monitoring, maintaining and overseeing an air carrier reliability program that explains the decisions made in developing the recommendation and any corresponding documents.

6. The working group may be reinstated to assist the ARAC by responding to FAA's questions or concerns after the recommendation has been submitted.

The report should document both majority and minority positions on the findings and the rationale for each position. Any disagreements should be documented, including the rationale for each position and the reasons for the disagreement.

Schedule

The recommendation report must be submitted to the FAA for review and acceptance no later than September 30, 2014.

Working Group Activity

The Maintenance Reliability Program Working Group must comply with the procedures adopted by ARAC. As part of the procedures, the working group must:

1. Conduct a review and analysis of the assigned tasks and the related materials or documents.

2. Draft and submit a work plan for completion of the task, including the rationale supporting such a plan, for consideration by ARAC.

3. Provide a status report on the work plan at each ARAC meeting.

4. Draft and submit the recommendation report based on the review and analysis of the assigned tasks.

5. Present the recommendation report to the ARAC at a regularly scheduled meeting.

Participation in the Working Group

The Maintenance Reliability Program Working Group will be comprised of technical experts having an interest in the assigned task. A working group member need not be a member representative of ARAC. The FAA would like a wide range of members to ensure all aspects of the tasks are considered in development of the recommendations.

The June 18, 2010 Presidential memorandum “Lobbyists on Agency Boards and Commissions,” states that a member must not be a federally registered lobbyist, who is subject to the registration and reporting requirements of the Lobbying Disclosure Act of 1995 (LDA) as amended, 2 U.S.C 1603, 1604, and 1605, at the time of appointment or reappointment to the ARAC, and has not served in such a role for a two-year period prior to appointment. For further information see OMB final guidance on appointment of lobbyists to federal boards and commissions (76 FR 61756, October 5, 2011.) Therefore, the FAA will not select any person that is a registered lobbyist.

If you wish to become a member of the Maintenance Reliability Program Working Group, write the person listed under the caption FOR FURTHER INFORMATION CONTACT expressing that desire. Describe your interest in the task and state the expertise you would bring to the working group. We must receive all requests by September 3, 2013. ARAC and the FAA will review the requests and advise you whether or not your request is approved.

If you are chosen for membership on the working group, you must actively participate in the working group by attending all meetings, and providing written comments when requested to do so. You must devote the resources necessary to support the working group in meeting any assigned deadlines. You must keep your management chain and those you may represent advised of working group activities and decisions to ensure the proposed technical solutions do not conflict with the position of those you represent. Once the working group has begun deliberations, members will not be added or substituted without the approval of the ARAC Chair, the FAA, including the Designated Federal Officer, and the Working Group Chair.

The Secretary of Transportation determined the formation and use of ARAC is necessary and in the public interest in connection with the performance of duties imposed on the FAA by law.

ARAC meetings are open to the public. However, meetings of the Maintenance Reliability Program Working Group are not open to the public, except to the extent individuals with an interest and expertise are selected to participate. The FAA will make no public announcement of working group meetings.

Issued in Washington, DC, on August 9, 2013.
Lirio Liu,
Designated Federal Officer, Aviation Rulemaking Advisory Committee.

[FR Doc. 2013-19739 Filed 8-13-13; 8:45 am]

BILLING CODE 4910-13-P